ENVIRONMENTAL PROTECTION AGENCY

[FRL-8029-1]

Proposed Agreement and Covenant Not To Sue Pursuant to the Comprehensive Environmental Response, Compensation, and Liability Act of 1980, as Amended by the Superfund Amendments and Reauthorization Act of 1986; In Re: Davenport and Flagstaff Smelters Superfund Site, Operable Unit Number Three, Salt Lake County, UT

ACTION: Notice of proposed agreement; request for public comment.

SUMMARY: In accordance with the Comprehensive Environmental Response Compensation, and Liability Act, as amended (“CERCLA”), 42 U.S.C. 9601, et. seq., notice is hereby given of a proposed Agreement and Covenant Not to Sue (“Agreement”) between the United States, on behalf of the U.S. Environmental Protection Agency (“EPA”), and L.C. Canyon Partners, LLC (“Settling Respondent”). Under the Proposed Agreement, Settling Respondent agrees to pay past costs, oversight costs, and to conduct a removal action defined in the enforcement action memorandum consisting primarily of the development of remediated portions of the property being purchased by Settling Respondent into single-family home sites. In addition, Settling Respondent agrees to provide access to representatives of EPA and the State of Utah. In exchange for this consideration, EPA will grant Settling Respondent a covenant not to sue for existing contamination. Additionally, Settling Respondent will be entitled to contribution protection for “matters addressed” in the Agreement.

For thirty (30) days following the date of publication of this notice, EPA will receive written comments relating to the Agreement. EPA will consider all comments received and may modify or withdraw its consent to the Agreement if comments received disclose facts or considerations that indicate that the Agreement is inappropriate, improper, or inadequate. The proposed Agreement, as well as EPA's response to any comments received will be available for public inspection in the administrative record held at the Superfund Record Center, 999 18th Street, Suite 300, Denver, CO. During the public comment period, the Agreement (without exhibits) may also be examined on the following Department of Justice Web site, http://www.usdoj.gov/enrd/open.html.

DATES: Comments must be submitted on or before March 16, 2006.

ADDRESSES: Comments should be addressed to Michael Rudy, U.S. Environmental Protection Agency-Region 8, 999 18th Street, Suite 300, mail code: 8ENF-RC, Denver, CO 80202 or rudy.mike@epa.gov.

FOR FURTHER INFORMATION CONTACT: A copy of the proposed Agreement can also be obtained from Michael Rudy at the address listed in the ADDRESSES section above or by calling 303-312-6332.

Dated: January 27, 2006.
Bert Garcia,
Director, Superfund Remedial Program.

[FR Doc. E6-2059 Filed 2-13-06; 8:45 am]

BILLING CODE 6560-50-P